FEDERAL MINE SAFETY AND HEALTH REVIEW COMMISSION

Sunshine Act Notice

June 25, 2015.

TIME AND DATE: 10:00 a.m., Thursday, July 9, 2015.

PLACE: The Richard V. Backley Hearing Room, Room 511N, 1331 Pennsylvania Avenue NW., Washington, DC 20004 (enter from F Street entrance).

STATUS: Open.

MATTERS TO BE CONSIDERED: The Commission will consider and act upon the following in open session: Secretary of Labor v. Newtown Energy, Inc., Docket No. WEVA 2011-283 (Issues include whether the Administrative Law Judge erred by concluding that the violation in question was not significant and substantial and was not the result of an unwarrantable failure to comply.).

Any person attending this meeting who requires special accessibility features and/or auxiliary aids, such as sign language interpreters, must inform the Commission in advance of those needs. Subject to 29 CFR 2706.150(a)(3) and § 2706.160(d).

CONTACT PERSON FOR MORE INFO: Emogene Johnson (202) 434-9935/(202) 708-9300 for TDD Relay/1-800-877-8339 for toll free.

Sarah Stewart,
Deputy General Counsel.

[FR Doc. 2015-16049 Filed 6-25-15; 4:15 pm]

BILLING CODE 6735-01-P